DEPARTMENT OF COMMERCE

National Oceanic and Atmospheric Administration

50 CFR Part 635

[I.D. 080300A]

Atlantic Highly Migratory Species Fisheries; Atlantic Bluefin Tuna

AGENCY: National Marine Fisheries Service (NMFS), National Oceanic and Atmospheric Administration (NOAA), Commerce.

ACTION: Retention limit adjustment.

SUMMARY: NMFS adjusts the daily retention limit for the Angling category fishery for Atlantic bluefin tuna (BFT) in all areas to two school BFT and two large school or small medium BFT per vessel from September 1, 2000, through October 15, 2000. In addition, NMFS is making subsequent adjustments to the daily retention limit, as noted in the DATES section of this document. This action is being taken to provide increased fishing and data collection opportunities in all areas without risking overharvest of this category.

DATES: Effective 1 a.m., local time, September 1, 2000, until 11:30 p.m., local time, October 15, 2000, the daily retention limit in all areas is adjusted to two school BFT (measuring 27 to less than 47 inches (69 to less than 119 cm) curved fork length) and two large school or small medium BFT (measuring 47 to less than 73 inches (119 to less than 150 cm) curved fork length).

Effective October 16, 2000, the daily retention limit in all areas is adjusted to one large school or small medium BFT until May 31, 2001.

FOR FURTHER INFORMATION CONTACT: Pat Scida or Brad McHale, 978-281-9260.

SUPPLEMENTARY INFORMATION: Regulations implemented under the authority of the Atlantic Tunas Convention Act (16 U.S.C. 971 et seq.) and the Magnuson-Stevens Act (16 U.S.C. 1801 et seq.) governing the harvest of BFT by persons and vessels subject to U.S. jurisdiction are found at 50 CFR part 635.

Implementing regulations for the Atlantic tuna fisheries at § 635.23 allow for adjustments to the daily retention limits in order to provide for maximum utilization of the quota spread over the longest possible period of time. NMFS may increase or reduce the per-angler retention limit for any size class BFT or may change the per-angler limit to a per-boat limit or a per-boat limit to a per-angler limit. In addition, NMFS may make closures or changes to a retention limit effective in certain areas and/or regions.

NMFS is responsible for implementing a recommendation of the International Commission for the Conservation of Atlantic tunas (ICCAT) to limit the catch of school BFT to no more than 8 percent by weight of the total domestic quota over each 4-consecutive-year period. NMFS implements this ICCAT recommendation through annual and in season adjustments to the school BFT landings and school BFT reserve categories, as necessary, and through the establishment of a school BFT reserve (64 FR 29090, May 28, 1999; 65 FR 42883, July 12, 2000). The recent ICCAT recommendation allows NMFS more flexibility to make interannual adjustments for overharvests and underharvests, provided that the 8-percent landings limit is met over the applicable 4-consecutive-year period. This approach provides NMFS with the flexibility to enhance fishing opportunities and the collection of information on a broad range of BFT size classes and responds to requests from the recreational fishing community for more advance notice of retention limit adjustments and greater stability and certainty in planning for the fishing season.

Since July 31, 2000, NMFS has maintained the daily retention limit at one large school or small medium BFT per vessel. In the announcement for the daily retention limit effective June 23 through July 30, 2000 (65 FR 19860, April 13, 2000), which adjusted the retention limit to two school and one large school or small medium BFT per vessel, NMFS announced the intention to adjust the daily retention limit once again during late summer abd early fall season when BFT have moved further north to the waters off Rhode Island, New York, and northern New Jersey, contingent upon the availability of BFT Angling category quota.

Over the last several years, NMFS has received comments from mid-Atlantic fishermen that the implementation of an increased daily retention limit over a date-certain period is preferable to a longer season with a lower daily retention limit as it facilitates the scheduling of fishing trips, particularly charter trips. In 1999, NMFS increased the daily retention limit to two school BFT and one large school or small medium BFT per vessel for the periods June 25 through July 25 and September 1 through October 6, and comments from Angling category participants regarding the 1999 fishing season were positive. NMFS is encouraged by the positive feedback regarding the date certain nature of the 1999 season, and has determined that a late-season daily retention limit adjustment is warranted to ensure reasonable fishing opportunities in all geographic areas without risking overharvest.

Preliminary Large Pelagic Survey estimates of landings for June through July 23, 2000, indicate that approximately 12.5 metric tons (mt) of school BFT and approximately 23.6 mt of large school/small medium BFT have been landed. These figures are approximately 9.2 and 7.8 percent of the 2000 Angling category quotas for school and large school/small medium BFT, respectively.

Effective September 1, 2000, through October 15, 2000, NMFS adjusts the BFT Angling category daily retention limit for all areas to two school BFT and two large school or small medium BFT per vessel. After October 15, 2000, the daily retention limit for all areas will be one large school or small medium BFT per vessel. The daily retention limit and the duration of daily retention limit adjustment have been selected based on an examination of past and current catch and effort rates. Allowing two large school or small medium BFT per vessel is different from the past few retention limit adjustments, when retention of only one fish from the larger size classes was allowed. NMFS has chosen a higher retention limit for this adjustment due to relatively low landings to date, along with the increased quota for these size classes due to under harvest in 1999. NMFS will continue to monitor the Angling category fishery closely through the Automated Landings Reporting System, the state harvest tagging programs in North Carolina and Maryland, and the Large Pelagic Survey. Depending on the level of fishing effort and catch rates of BFT, NMFS may determine that an interim closure or additional retention limit adjustment, in all or some areas, is necessary to enhance scientific data collection and fishing opportunities. Additionally, NMFS may determine that an allocation from the school BFT reserve is warranted to further fishery management objectives.

Closures or subsequent adjustments to the daily retention limit, if any, shall be announced through publication in the Federal Register. In addition, anglers may call the Atlantic Tunas Information Line at 888-USA-TUNA (888-872-8862) or 978-281-9305 for updates on quota monitoring and retention limit adjustments. Anglers aboard Charter/Headboat category vessels, when engaged in recreational fishing for school, large school, and small medium BFT, are subject to the same rules as anglers aboard Angling category vessels. All BFT landed under the Angling category quota must be reported within 24 hours of landing to the NMFS Automated Landings Reporting System by calling 888-USA-TUNA (888-872-8862) or, if landed in the state of North Carolina or Maryland, to a reporting station prior to offloading. Information about these state harvest tagging programs, including reporting station locations, can be obtained in North Carolina by calling (800) 338-7804, and in Maryland by calling (410) 213-1531.

Classification

This action is taken under 50 CFR 635.23(b)(3). This action is exempt from review under Execution Order 12866.

Authority: 16 U.S.C. 971 et seq. and 1801 et seq.

Dated: August 11, 2000.
Bruce C. Morehead,
Acting Director, Office of Sustainable Fisheries, National Marine Fisheries Service.

[FR Doc. 00-20992 Filed 8-16-00; 8:45 am]

BILLING CODE 3510-22-M